DEPARTMENT OF TRANSPORTATION

Federal Aviation Administration

14 CFR Part 39

[Docket No. FAA-2005-20732; Directorate Identifier 2004-NM-278-AD]

RIN 2120-AA64

Airworthiness Directives; Boeing Model 777-200 and -300 Series Airplanes

AGENCY: Federal Aviation Administration (FAA), Department of Transportation (DOT).

ACTION: Notice of proposed rulemaking (NPRM).

SUMMARY: The FAA proposes to adopt a new airworthiness directive (AD) for certain Boeing Model 777-200 and -300 series airplanes. This proposed AD would require replacing the battery packs of the emergency power assist system (EPAS) of the left and right non-overwing exit doors with new or modified battery packs. This proposed AD is prompted by intermittent failures of the EPAS battery pack found during testing, which are due to switch contamination, cam alignment problems, and inadequate self-test capability. We are proposing this AD to prevent failure of the EPAS, which could result in the inability to open the exit door during an emergency evacuation.

DATES: We must receive comments on this proposed AD by May 16, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• By fax: (202) 493-2251.

• Hand Delivery: Room PL-401 on the plaza level of the Nassif Building, 400 Seventh Street SW., Washington, DC, between 9 a.m. and 5 p.m., Monday through Friday, except Federal holidays.

For service information identified in this proposed AD, contact Boeing Commercial Airplanes, P.O. Box 3707, Seattle, Washington 98124-2207.

You can examine the contents of this AD docket on the Internet at http://dms.dot.gov, or in person at the Docket Management Facility, U.S. Department of Transportation, 400 Seventh Street SW., room PL-401, on the plaza level of the Nassif Building, Washington, DC. This docket number is FAA-2005-20732; the directorate identifier for this docket is 2004-NM-278-AD.

FOR FURTHER INFORMATION CONTACT: Georgios Roussos, Systems and Equipment Branch, ANM-130S, FAA, Seattle Aircraft Certification Office, 1601 Lind Avenue, SW., Renton, Washington 98055-4056; telephone (425) 917-6482; fax (425) 917-6590.

SUPPLEMENTARY INFORMATION:

Comments Invited

We invite you to submit any relevant written data, views, or arguments regarding this proposed AD. Send your comments to an address listed under ADDRESSES. Include “Docket No. FAA-2005-20732; Directorate Identifier 2004-NM-278-AD” in the subject line of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You can review DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

We have received a report indicating that, during testing on Boeing Model 777-200 and -300 series airplanes, several intermittent failures of the battery packs of the emergency power assist system (EPAS) of the left and right non-overwing exit doors occurred. Investigation revealed that the failures are due to switch contamination, cam alignment problems, and inadequate self-test capability in the exit door. These problems could cause loss of the power that is necessary to operate the EPAS. These conditions, if not corrected, could result in failure of the EPAS and consequent inability to open the exit door during an emergency evacuation.

Relevant Service Information

We have reviewed Boeing Service Bulletin 777-52-0033, Revision 1, dated June 12, 2003. The service bulletin describes procedures for replacing the battery packs of the EPAS of the left and right non-overwing exit doors with new battery packs for Group 1 and 2 airplanes. Accomplishing the actions specified in the service information is intended to adequately address the unsafe condition.

Boeing has also issued Component Service Bulletin 285W0955-24-01, dated November 21, 2002, which describes procedures for modifying the battery packs of the EPAS. This is an optional modification for Group 2 airplanes and may be done in lieu of the replacement specified in Boeing Service Bulletin 777-52-0033, Revision 1.

FAA's Determination and Requirements of the Proposed AD

We have evaluated all pertinent information and identified an unsafe condition that is likely to exist or develop on other airplanes of this same type design. Therefore, we are proposing this AD, which would require accomplishing the actions specified in the service information described previously.

Costs of Compliance

There are about 348 airplanes of the affected design in the worldwide fleet. This proposed AD would affect about 134 airplanes of U.S. registry.

For all affected airplanes: The proposed replacement would take about 8 work hours per airplane (1 work hour per battery pack), at an average labor rate of $65 per work hour. Required parts would cost about $29,058 per airplane. Based on these figures, the estimated cost of the proposed replacement for U.S. operators is $29,578 per airplane.

For Group 2 airplanes: The optional modification, if accomplished, would take about 16 work hours per airplane (2 work hours per battery pack), at an average labor rate of $65 per work hour. Required parts would cost about $789 per airplane. Based on these figures, the estimated cost is $1,829 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Boeing: Docket No. FAA-2005-20732; Directorate Identifier 2004-NM-278-AD.

Comments Due Date

(a) The Federal Aviation Administration (FAA) must receive comments on this AD action by May 16, 2005.

Affected ADs

(b) None.

Applicability

(c) This AD applies to Boeing Model 777-200 and -300 series airplanes; certificated in any category; as identified in Boeing Service Bulletin 777-52-0033, Revision 1, dated June 12, 2003.

Unsafe Condition

(d) This AD was prompted by intermittent failures of the emergency power assist system (EPAS) battery pack found during testing, which are due to switch contamination, cam alignment problems, and inadequate self-test capability. We are issuing this AD to prevent failure of the EPAS, which could result in the inability to open the exit door during an emergency evacuation.

Compliance

(e) You are responsible for having the actions required by this AD performed within the compliance times specified, unless the actions have already been done.

Replacement

(f) For Group 1 airplanes, as identified in Boeing Service Bulletin 777-52-0033, Revision 1, dated June 12, 2003: Within 24 months after the effective date of this AD, replace the battery packs of the EPAS of the left and right non-overwing exit doors with new battery packs by doing all the actions specified in Boeing Service Bulletin 777-52-0033, Revision 1, dated June 12, 2003.

Replacement or Modification

(g) For Group 2 airplanes, as identified in Boeing Service Bulletin 777-52-0033, Revision 1, dated June 12, 2003: Within 24 months after the effective date of this AD, accomplish the actions specified in either paragraph (g)(1) or (g)(2) of this AD.

(1) Replace the battery packs as required by paragraph (f) of this AD.

(2) Modify the battery packs by doing all the actions specified in Boeing Component Service Bulletin 285W0955-24-01, dated November 21, 2002.

Credit for Actions Accomplished Previously

(h) Accomplishing the actions required by paragraph (f) or (g) before the effective date of this AD, in accordance with Boeing Service Bulletin 777-52-0033 dated November 21, 2002, is considered acceptable for compliance with the corresponding actions in this AD. The manufacturer issued Information Notice (IN) 777-52-0033 IN 01 dated January 9, 2003, to inform operators of an error in the part number for a 9-volt alkaline battery as specified in Paragraph 2.C.2. of the original issue of the service bulletin.

Parts Installation

(i) As of the effective date of this AD, no person may install a EPAS battery pack, part number (P/N) S283W203-1 or P/N 285W0955-101, on any airplane.

Alternative Methods of Compliance (AMOCs)

(j) The Manager, Seattle Aircraft Certification Office (ACO), FAA, has the authority to approve AMOCs for this AD, if requested in accordance with the procedures found in 14 CFR 39.19.

Issued in Renton, Washington, on March 21, 2005.
Ali Bahrami,
Manager, Transport Airplane Directorate, Aircraft Certification Service.

[FR Doc. 05-6349 Filed 3-30-05; 8:45 am]

BILLING CODE 4910-13-P